DEPARTMENT OF TRANSPORTATION

Federal Highway Administration

Buy America Waiver Notification

AGENCY: Federal Highway Administration (FHWA), DOT.

ACTION: Notice.

SUMMARY: This notice provides information regarding the FHWA's finding that a Buy America waiver is appropriate for the use of a foreign Three-Ton Chain Hoist in the Federal-aid construction project for the Hood Canal Bridge BR-0104 (25) retrofit and replacement in Washington.

DATES: The effective date of the waiver is June 2, 2009.

FOR FURTHER INFORMATION CONTACT: For questions about this notice, please contact Mr. Gerald Yakowenko, FHWA Office of Program Administration, (202) 366-1562, or via e-mail at gerald.yakowenko@dot.gov. For legal questions, please contact Mr. Michael Harkins, FHWA Office of the Chief Counsel, (202) 366-4928, or via e-mail at michael.harkins@dot.gov. Office hours for the FHWA are from 7:45 a.m. to 4:15 p.m., e.t., Monday through Friday, except Federal holidays.

SUPPLEMENTARY INFORMATION:

Electronic Access

An electronic copy of this document may be downloaded from the Federal Register's home page at: http://www.archives.gov and the Government Printing Office's database at: http://www.access.gpo.gov/nara.

Background

The FHWA's Buy America policy in 23 CFR 635.410 requires a domestic manufacturing process for any steel or iron products (including protective coatings) that are permanently incorporated in a Federal-aid construction project. The regulation also provides for a waiver of the Buy America requirements when the application of such requirements would be inconsistent with the public interest or when satisfactory quality domestic steel and iron products are not sufficiently available. This notice provides information regarding the FHWA's finding that a Buy America waiver is appropriate for the Three-Ton Chain Hoist for the Hood Canal Bridge retrofit and replacement in Washington.

In accordance with Division I, section 126 of the “Omnibus Appropriations Act, 2009” (Pub. L. 111-8), the FHWA published a notice of intent to issue a waiver on its Web site for the Three-Ton Chain Hoist (http://www.fhwa.dot.gov/construction/contracts/waivers.cfm?id=32) on April 16. The FHWA received no comments in response to this notice, which suggested that the Three-Ton Chain Hoist may not be available domestically. During the 15-day comment period, the FHWA conducted an additional nationwide review to locate potential domestic manufacturers for the Three-Ton Chain Hoist. Based on all the information available to the agency, the FHWA concludes that there are no domestic manufacturers for the Three-Ton Chain Hoist. Thus, the FHWA concludes that a Buy America waiver is appropriate as provided by 23 CFR 635.410(c)(1).

In accordance with the provisions of section 117 of the SAFETEA-LU Technical Corrections Act of 2008 (Pub. L. 110-244, 122 Stat. 1572), the FHWA is providing this notice as its finding that a waiver of Buy America requirements is appropriate. The FHWA invites public comment on this finding for an additional 15 days following the effective date of the finding. Comments may be submitted to the FHWA's Web site via the link provided to the Washington waiver page noted above.

Authority: 23 U.S.C. 313; Pub. L. 110-161, 23 CFR 635.410.

Issued on: May 15, 2009.
King W. Gee,
Associate Administrator for Infrastructure.

[FR Doc. E9-12637 Filed 5-29-09; 8:45 am]

BILLING CODE 4910-22-P